NATIONAL COUNCIL ON DISABILITY

Sunshine Act Meetings

Date and Times: April 20, 2010, 12 noon-5 p.m.

Place: National Council on Disability, 1331 F Street, NW., Suite 850, Washington, DC 20004.

Status: Parts of this meeting will be open to the public. The rest of the meeting will be closed to the public.

Matters to be Considered: Current NCD Projects.

Portions Open to the Public: April 20, 2010, 12 noon-1 p.m.

Matters to be Considered: Closed Executive Session.

Portions Closed to the Public: April 20, 2010, 1 p.m.-5 p.m.

FOR FURTHER INFORMATION CONTACT: Mark Quigley, Director of Communications, NCD, 1331 F Street, NW., Suite 850, Washington, DC 20004; 202-272-2004, 202-272-2074 (TTY).

Dated: April 8, 2010.
Joan M. Durocher,
Executive Director.

[FR Doc. 2010-8634 Filed 4-12-10; 4:15 pm]

BILLING CODE 6820-MA-P